DEPARTMENT OF HEALTH AND HUMAN SERVICES

Centers for Medicare & Medicaid Services

[CMS-1215-N2]

Medicare Program; June 3, 2002, Meeting of the Practicing Physicians Advisory Council

AGENCY: Centers for Medicare & Medicaid Services (CMS), HHS.

ACTION: Notice; revision to a meeting agenda.

SUMMARY: This notice announces a revision to the agenda items to be discussed at the June 3, 2002 Practicing Physicians' Advisory Council (the Council). An agenda item will be added in order to accommodate a discussion and to receive testimony for the Council concerning the Emergency Medical Treatment and Labor Act (EMTALA). In accordance with section 10(a) of the Federal Advisory Committee Act, the meeting is open to the public.

DATES: The meeting is scheduled for June 3, 2002, from 8:30 a.m. until 5 p.m. e.d.t.

ADDRESSES: The meeting will be held in the Multipurpose Room at CMS Headquarters, 7500 Security Blvd., Baltimore, MD 21244-1850.

MEETING REGISTRATION: Persons wishing to attend this meeting must contact Diana Motsiopoulos, the Council Administrative Coordinator, at dmotsiopoulos@cms.hhs.gov or (410) 786-3379, at least 72 hours in advance to register. Persons not registered in advance will not be permitted into the building and will not be permitted to attend the meeting. Persons attending the meeting will be required to show a photographic identification, preferably a valid driver's license, before entering the building.

FOR FURTHER INFORMATION CONTACT: Paul Rudolf, M.D., J.D., Executive Director, Practicing Physicians' Advisory Council, 7500 Security Blvd., Mail Stop C5-17-14, Baltimore, MD 21244-1850, 410-786-3379. News media representatives should contact the CMS Press Office, (202) 690-6145. Please refer to the CMS Advisory Committee's Information Line (1-877-449-5659, toll free)/(410-786-9379, local) or the Internet at http://www.hcfa.gov/medicare/ppacsite.htm for additional information and updates on Committee activities.

SUPPLEMENTARY INFORMATION: The following agenda topic has changed from the initial notice published on April 26, 2002 (67 FR 20803):

• Emergency Medical Treatment and Labor Act (EMTALA) has been added.

The revised agenda follows.

The meeting will commence with a Council update on the status of prior recommendations, followed by discussion and comment on the following agenda topics:

• Physician's Regulatory Issues Team (PRIT) update.

• Medicaid Overview.

• Evaluation & Management Guidelines.

• Update Health Insurance Portability & Accountability Act (HIPAA) Privacy Rule.

• Claims Processing.

• EMTALA.

• Beneficiary Access.

• Physician Fee Schedule.

For additional information and clarification, contact the Executive Director, listed under the “For Further Information Contact” section of this notice. Individual physicians or medical organizations that represent physicians wishing to make a 5-minute oral presentation on agenda issues should contact the Executive Director by 12 noon, May 24, 2002, to be scheduled. Testimony is limited to agenda topics only. The number of oral presentations may be limited by the time available. A written copy of the presenter's oral remarks must be submitted to Diana Motsiopoulos, Administrative Coordinator, dmotsipoulos@cms.hhs.gov, no later than 12 noon, May 24, 2002, for distribution to Council members for review before the meeting. Physicians and medical organizations not scheduled to speak may also submit written comments to the Administrative Coordinator for distribution.

Authority: (Section 1868 of the Social Security Act (42 U.S.C. 1395ee) and section 10(a) of Pub. L. 92-463 (5 U.S.C. App. 2, section 10(a))

(Catalog of Federal Domestic Assistance Program No. 93.773, Medicare—Hospital Insurance; and Program No. 93.774, Medicare—Supplementary Medical Insurance Program)
Dated: May 9, 2002.
Thomas A. Scully,
Administrator, Centers for Medicare & Medicaid Services.

[FR Doc. 02-12549 Filed 5-16-02; 8:45 am]

BILLING CODE 4120-01-P